OFFICE OF PERSONNEL MANAGEMENT

Excepted Service; May 2020

AGENCY: Office of Personnel Management (OPM).

ACTION: Notice.

SUMMARY: This notice identifies Schedule A, B, and C appointing authorities applicable to a single agency that were established or revoked from May 1, 2020 to May 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2020.

Schedule B

No Schedule B Authorities to report during May 2020.

Schedule C

The following Schedule C appointing authorities were approved during May 2020.

Agency name | Organization name | Position title | Authorization No. | Effective date
DEPARTMENT OF AGRICULTURE | Rural Housing Service | State Director—New Mexico | DA200079 | 05/08/2020
DEPARTMENT OF COMMERCE | Bureau of Industry and Security International Trade Administration | Legislative Affairs Specialist Advisor Senior Advisor | DC200095 DC200118 DC200108 | 05/04/2020 05/07/2020 05/11/2020
| Minority Business Development Agency | Confidential Assistant | DC200120 | 05/19/2020
| Office of Advance, Scheduling and Protocol | Advance Assistant | DC200111 | 05/07/2020
| Office of Policy and Strategic Planning | Senior Advisor | DC200113 | 05/14/2020
| Office of the Chief Financial Officer and Assistant Secretary for Administration | Special Assistant | DC200072 | 05/06/2020
DEPARTMENT OF DEFENSE | Washington Headquarters Services Office of the Secretary | Special Advisor Protocol Officer (2) | DD200167 DD200185 DD200186 | 05/06/2020 05/27/2020 05/30/2020
DEPARTMENT OF THE AIR FORCE | Office of the Secretary | Special Assistant | DF200008 | 05/08/2020
DEPARTMENT OF THE NAVY | Office of the Assistant Secretary of the Navy (Manpower and Reserve Affairs) Department of the Navy | Special Assistant (Manpower and Reserve Affairs) Special Assistant | DN200024 DN200027 | 05/11/2020 05/27/2020
DEPARTMENT OF EDUCATION | Office of Communications and Outreach | Director of Outreach Confidential Assistant | DB200052 DB200053 | 05/04/2020 05/04/2020
| Office of Special Education and Rehabilitative Services | Confidential Assistant Special Assistant | DB200055 DB200054 | 05/07/2020 05/11/2020
| Office of the Secretary | Confidential Assistant | DB200056 | 05/15/2020
DEPARTMENT OF ENERGY | Office of Advanced Research Projects Agency—Energy | Senior Advisor | DE200120 | 05/08/2020
| Office of the Assistant Secretary for Energy Efficiency and Renewable Energy | Senior Advisor | DE200165 | 05/19/2020
| Office of the Assistant Secretary for Environmental Management | Senior Advisor | DE200086 | 05/19/2020
| Office of Public Affairs | Writer-Editor (Speechwriter) (2) | DE200103 DE200119 | 05/04/2020 05/18/2020
ENVIRONMENTAL PROTECTION AGENCY | Office of the Associate Administrator for Policy | Policy Assistant | EP200069 | 05/13/2020
DEPARTMENT OF HEALTH AND HUMAN SERVICES | Office for Civil Rights Office of the Assistant Secretary for Public Affairs | Senior Advisor for Conscience and Religious Freedom Senior Advisor Special Assistant | DH200107 DH200109 DH200120 | 05/05/2020 05/04/2020 05/28/2020
| Office of the Secretary | Advisor Special Assistant | DH200111 DH200112 | 05/13/2020 05/13/2020
DEPARTMENT OF HOMELAND SECURITY | Federal Emergency Management Agency | Senior Advisor (2) | DM200262 DM200210 | 05/29/2020 05/30/2020
| Office of the Assistant Secretary for Policy | Policy Advisor | DM200248 | 05/01/2020
| United States Immigration and Customs Enforcement | Senior Advisor, Oversight | DM200246 | 05/05/2020
DEPARTMENT OF HOUSING AND URBAN DEVELOPMENT | Office of Community Planning and Development Office of the Chief Financial Officer | Special Assistant Senior Advisor | DU200094 DU200097 | 05/05/2020 05/12/2020
DEPARTMENT OF JUSTICE | Office on Violence Against Women | Special Advisor | DJ200106 | 05/07/2020
DEPARTMENT OF LABOR | Office of Public Liaison | Senior Advisor | DL200124 | 05/28/2020
| Office of the Assistant Secretary for Policy | Special Assistant | DL200111 | 05/05/2020
| Office of the Chief Financial Officer | Chief of Staff | DL200099 | 05/15/2020
| Office of the Secretary | Director, Office of the White House Liaison Deputy White House Liaison Special Assistant | DL200122 DL200131 DL200110 | 05/01/2020 05/15/2020 05/27/2020
| Wage and Hour Division | Policy Advisor | DL200090 | 05/21/2020
NATIONAL TRANSPORTATION SAFETY BOARD | Office of the Board Members | Special Assistant | TB200006 | 05/05/2020
OCCUPATIONAL SAFETY AND HEALTH REVIEW COMMISSION | Office of the Commissioners | Counsel | SH200002 | 05/21/2020
OFFICE OF MANAGEMENT AND BUDGET | Office of General Government Programs Office of Communications | Confidential Assistant Deputy for Communication Deputy Press Secretary | BO200026 BO200027 BO200028 | 05/01/2020 05/18/2020 05/30/2020
OFFICE OF NATIONAL DRUG CONTROL POLICY | Office of Legislative Affairs | Public Affairs Specialist | QQ200006 | 05/07/2020
OFFICE OF PERSONNEL MANAGEMENT | Office of Congressional, Legislative, and Intergovernmental Affairs | Deputy Director, Congressional, Legislative and Intergovernmental Affairs | PM200051 | 05/08/2020
| Office of Employee Services | Executive Assistant | PM200058 | 05/18/2020
| Office of the Director | Special Assistant | PM200050 | 05/04/2020
| President's Commission on White House Fellowships | Associate Director | PM200056 | 05/30/2020
OFFICE OF SCIENCE AND TECHNOLOGY POLICY | Office of Science and Technology Policy | Confidential Assistant | TS200004 | 05/20/2020
SMALL BUSINESS ADMINISTRATION | Office of the Administrator | Deputy White House Liaison Special Assistant | SB200023 SB200016 | 05/08/2020 05/19/2020
| Office of Entrepreneurial Development | Senior Advisor | SB200024 | 05/28/2020
DEPARTMENT OF STATE | Office of the Under Secretary for Civilian Security, Democracy, and Human Rights | Senior Advisor | DS200063 | 05/06/2020
DEPARTMENT OF TRANSPORTATION | Office of the Assistant Secretary for Governmental Affairs | Senior Governmental Affairs Officer Special Assistant | DT200107 DT200116 | 05/05/2020 05/27/2020
| Office of the Chief Information Officer | Associate Director for Strategic ITInitiatives | DT200110 | 05/08/2020
| Office of Public Affairs | Senior Media Affairs Coordinator | DT200115 | 05/27/2020
DEPARTMENT OF THE TREASURY | Office of the Assistant Secretary (Public Affairs) | Public Affairs Specialist Special Assistant for Public Affairs | DY200090 DY200091 | 05/13/2020 05/13/2020
| Office of the Assistant Secretary (Tax Policy) | Senior Advisor for Tax Policy | DY200094 | 05/13/2020
| Office of the Assistant Secretary for Financial Institutions | Senior Advisor for Financial Institutions | DY200101 | 05/31/2020
| Office of the Assistant Secretary for Financial Markets | Special Advisor for Financial Markets | DY200093 | 05/13/2020
DEPARTMENT OF VETERANS AFFAIRS | Board of Veterans' Appeals | Senior Advisor | DV200060 | 05/12/2020

The following Schedule C appointing authorities were revoked during May 2020.

Agency name | Organization name | Position title | Request No. | Date vacated
COMMISSION ON CIVIL RIGHTS | Office of Commissioners | Special Assistant | CC090004 | 05/01/2020
DEPARTMENT OF AGRICULTURE | Office of the Assistant Secretary for Congressional Relations | Director of Intergovernmental Affairs | DA200042 | 05/01/2020
| Natural Resources Conservations Service | Staff Assistant | DA200012 | 05/23/2020
| Office of the Under Secretary for Rural Development | Policy Coordinator | DA200039 | 05/23/2020
DEPARTMENT OF COMMERCE | Office of Executive Secretariat | Confidential Assistant | DC190135 | 05/09/2020
| Patent and Trademark Office | Special Advisor for Communications | DC190021 | 05/09/2020
| Office of Public Affairs | Press Assistant | DC190122 | 05/23/2020
OFFICE OF THE SECRETARY OF DEFENSE | Office of the Deputy Under Secretary for Policy Office of the Assistant Secretary of Defense (Legislative Affairs) | Special Assistant Special Assistant | DD190130 DD190188 | 05/02/2020 05/09/2020
| Office of the Under Secretary of Defense (Policy) | Special Assistant | DD190060 | 05/09/2020
DEPARTMENT OF EDUCATION | Office of the General Counsel | Attorney Advisor (Deputy Special Counsel) | DB190132 | 05/30/2020
DEPARTMENT OF ENERGY | Office of Public Affairs | Content Creator | DE190172 | 05/09/2020
| Office of Policy | Director of National Laboratory Operations Board and Senior Advisor | DE200073 | 05/16/2020
DEPARTMENT OF HEALTH AND HUMAN SERVICES | Office of Intergovernmental and External Affairs Office of the Secretary | Regional Director, Dallas, Texas, Region VI Deputy White House Liaison | DH190022 DH200046 | 05/08/2020 05/09/2020
DEPARTMENT OF HOUSING AND URBAN DEVELOPMENT | Office of the Secretary | Executive Assistant | DU190085 | 05/09/2020
DEPARTMENT OF JUSTICE | Office of Public Affairs | Senior Advisor Public Affairs Specialist | DJ190185 DJ190034 | 05/09/2020 05/23/2020
DEPARTMENT OF STATE | Bureau of Public Affairs | Deputy Assistant Secretary for Media Strategy | DS190069 | 05/09/2020
| Office of the Under Secretary for Civilian Security, Democracy, and Human Rights | Special Assistant | DS190142 | 05/16/2020
| Bureau of Political and Military Affairs | Special Assistant | DS180065 | 05/23/2020
| Bureau of Economic and Business Affairs | Special Assistant | DS190039 | 05/30/2020
| Bureau of Legislative Affairs | Legislative Management Officer | DS190129 | 05/31/2020
DEPARTMENT OF THE INTERIOR | Office of the Assistant Secretary—Indian Affairs | Special Assistant | DI190005 | 05/30/2020
DEPARTMENT OF THE TREASURY | Office of the Assistant Secretary—Public Affairs | Special Assistant | DY190073 | 05/02/2020
ENVIRONMENTAL PROTECTION AGENCY | Office of the Administrator | Senior Deputy White House Liaison White House Liaison | EP190110 EP190045 | 05/09/2020 05/09/2020
| Office of the Associate Administrator for Congressional and Intergovernmental Relations | Special Advisor | EP190042 | 05/09/2020
EXPORT-IMPORT BANK | Office of Communications | Press Secretary | EB190010 | 05/08/2020
FEDERAL COMMUNICATIONS COMMISSION | Office of Media Relations | Public Affairs Specialist | FC170009 | 05/08/2020
NATIONAL AERONAUTICS AND SPACE ADMINISTRATION | Office of the Chief Financial Officer | Policy Advisor | NN190051 | 05/23/2020
NATIONAL CREDIT UNION ADMINISTRATION | Office of the Board | Director, Office of External Affairs and Communications/Deputy Chief of Staff | CU200002 | 05/21/2020
NATIONAL TRANSPORTATION SAFETY BOARD | Office of the Board Members | Confidential Assistant | TB200003 | 05/23/2020
OFFICE OF MANAGEMENT AND BUDGET | Office of Communications Office of Government Programs Office of the Director | Press Secretary Confidential Assistant Deputy Chief of Staff | BO190032 BO190024 BO190021 | 05/23/2020 05/23/2020 05/23/2020
OFFICE OF PERSONNEL MANAGEMENT | Congressional, Legislative, and Intergovernmental Affairs | Legislative Analyst | PM200012 | 05/09/2020
OFFICE OF SPECIAL COUNSEL | Headquarters, Office of Special Counsel | Deputy Special Counsel for Congressional Affairs | SC190004 | 05/22/2020
SMALL BUSINESS ADMINISTRATION | Office of Investment and Innovation | Senior Advisor | SB200006 | 05/16/2020

Authority: 5 U.S.C. 3301 and 3302; E.O. 10577, 3 CFR, 1954-1958 Comp., p. 218.

Office of Personnel Management.
Stephen Hickman,
Federal Register Liaison.

[FR Doc. 2022-18185 Filed 8-23-22; 8:45 am]

BILLING CODE 6325-39-P